DEPARTMENT OF THE TREASURY

Privacy Act of 1974; System of Records

AGENCY: Departmental Offices, Department of the Treasury.

ACTION: Notice of a modified system of records.

SUMMARY: In accordance with the Privacy Act of 1974, the Department of the Treasury (“Treasury” or the “Department”), Treasury proposes to modify a current Treasury system of records titled, “Department of the Treasury, Treasury .001—Treasury Payroll and Personnel System” System of Records. The records and information collected and maintained in this system includes, but are not limited to: (1) Maintaining current and historical payroll records that are used to compute and audit pay entitlement; to record history of pay transactions; to record deductions, leave accrued and taken, bonds due and issued, taxes paid; maintaining and distributing Leave and Earnings statements; commence and terminate allotments; answer inquiries and process claims; and (2) maintaining current and historical personnel records and preparing individual administrative transactions relating to education and training; classification; assignment; career development; evaluation; promotion, compensation, separation and retirement; making decisions on the rights, benefits, entitlements and the utilization of individuals; providing a data source for the production of reports, statistical surveys, rosters, documentation, and studies required for the orderly personnel administration within Treasury; (3) maintaining employment history; and (4) perform personnel and payroll functions for Federal agencies for which Treasury is a cross-services provider and to conduct activities necessary to carry-out the official HR line of business for all Federal departments and agencies that are serviced by the National Finance Center (NFC); (5) producing of reports, statistical surveys, rosters, documentation, and studies required for the orderly personnel administration within Treasury, and (6) maintaining information about Treasury personnel and their dependents for needs and status assessments to determine if they are entitled to a benefit related to a natural or man-made disaster, a public health emergency, or similar crisis.

DATES: Submit comments on or before August 2, 2021. The modification of the system of records notice will be applicable on August 2, 2021.

ADDRESSES: Written comments on this notice may be submitted electronically through the Federal government eRulemaking portal at http://www.regulations.gov. Electronic submission of comments allows the commenter maximum time to prepare and submit a comment, ensures timely receipt, and enables the Treasury to make the comments available to the public. Please note that comments submitted through https://www.regulations.gov will be public and can be viewed by members of the public. Due to COVID-19-related restrictions, Treasury has suspended its ability to receive public comments by mail.

In general, Treasury will post all comments to https://www.regulations.gov without change, including any business or personal information provided, such as names, addresses, email addresses, or telephone numbers. All comments received, including attachments and other supporting material, will be part of the public record and subject to public disclosure. You should only submit information that you wish to make publicly available.

FOR FURTHER INFORMATION CONTACT: For general questions, please contact: Colleen Heller-Stein, 202-927-4800, Acting Deputy Assistant Secretary for Human Resources/Chief Human Capital Officer, 1500 Pennsylvania Avenue NW, Washington, DC 20220. For privacy issues, please contact: The Department of the Treasury, Office of Privacy and Civil Liberties via email at privacy@treasury.gov.

SUPPLEMENTARY INFORMATION: In accordance with the Privacy Act of 1974, the Department of the Treasury (“Treasury” or the “Department”), Treasury proposes to modify a current Treasury system of records titled, “Department of the Treasury, Treasury .001—Treasury Payroll and Personnel System” System of Records.

The proposed modification to the system of records makes the following substantive changes:

Treasury is modifying and publishing the modified system of records notice to add (1) one authority to collect, (2) one additional purpose (producing of reports, statistical surveys, rosters, documentation, and studies required for the orderly personnel administration within Treasury), (3) add 6 new routine uses (1-6 of this notice), and (4) update the routine use 23 (formerly 17). This update includes disclosing information to the Department of Justice, appropriate federal, state, local, tribal, foreign, or international agency, Congressional office, the National Archives and Records Administration Archivist, and the 2 breach response routine uses. Additionally, this modification includes an update to the authority to collect. The updated routine use 23 is consistent with the purposes of the original SORN that the records will be used for “production of reports, statistical surveys, rosters, documentation, and studies required for the orderly personnel administration within Treasury.” The updated routine use makes it clear and more specific that the records may be disclosed to contractors, grantees, experts, consultants, students, other federal agencies, and others performing or working on a contract, service, grant, cooperative agreement, or other assignment for the Department of the Treasury as required, (5) add Executive Orders 9397, as amended by 13478, 9830, and 12107 relating to Federal agency use of Social Security Numbers. These Executive Orders authorize collection of the Social Security Number. The information maintained in the system is collected to evaluate individuals for specific employment opportunities, and (6) add the American Rescue Plan Act of 2021 (Pub. L. 117-2) as an authority. The American Rescue Plan Act of 2021 provides federal employees with emergency paid leave (EPL) for reasons related to COVID-19. This paid leave entitlement is similar to the emergency paid sick leave (EPSL) provided under the Families First Coronavirus Response Act, but it is not a revival of EPSL. EPL may be used from March 11, 2021, through Sept. 30, 2021 by employees unable to work.

Treasury has provided a report of this system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016.

Dated: June 10, 2021.
Ryan Law,
Deputy Assistant Secretary for Privacy, Transparency, and Records.

SYSTEM NAME AND NUMBER:

Department of the Treasury.001—Treasury Payroll and Personnel System.

SECURITY CLASSIFICATION:

Unclassified.

SYSTEM LOCATION:

The Shared Development Center of the Treasury Personnel/Payroll System is located at 1750 Pennsylvania Avenue NW, Suite 1300, Washington, DC 20220. The Treasury Personnel System processing site is located at the Internal Revenue Service Detroit Computing Center, 985 Michigan Avenue, Detroit, MI 48226. The Treasury Payroll processing site is located at the United States Department of Agriculture National Finance Center, 13800 Old Gentilly Road, New Orleans, LA 70129.

The locations at which the system is maintained by all Treasury bureaus and offices and their associated field offices are:

(1) Departmental Offices (DO):

a. 1500 Pennsylvania Ave. NW, Washington, DC 20220.

b. The Office of Inspector General (OIG): 740 15th Street NW, Washington, DC 20220.

c. Special Inspector General for Pandemic Recovery (SIGPR): 1500 Pennsylvania Avenue NW, Washington, DC 20220.

d. Special Inspector General for the Troubled Asset Relief Program (SIGTARP): 1801 L Street NW, Washington, DC 20220.

e. Treasury Inspector General for Tax Administration (TIGTA): 1125 15th Street NW, Suite 700A, Washington, DC 20005.

(2) Alcohol and Tobacco Tax and Trade Bureau (TTB): 1310 G St. NW, Washington, DC 20220.

(3) Office of the Comptroller of the Currency (OCC): 400 7th Street SW, Washington, DC 20024.

(4) Bureau of Engraving and Printing (BEP): 14th & C Streets SW, Washington, DC 20228.

(5) Fiscal Service (FS): 401 14th Street SW, Washington, DC 20227.

(6) Internal Revenue Service (IRS): 1111 Constitution Avenue NW, Washington, DC 20224.

(7) United States Mint (MINT): Avery Street Building, 320 Avery Street, Parkersburg, WV, and 801 9th St. NW, Washington DC 20220.

(8) Bureau of Public Debt (BPD): 999-E Street NW, Washington, DC 20239.

(9) Financial Crimes Enforcement Network (FinCEN), Vienna, VA 22183-0039.

SYSTEM MANAGER:

Department of the Treasury: Official prescribing policies and practices: Chief Human Capital Officer/Deputy Assistant Secretary for Human Resources, 1500 Pennsylvania Avenue NW, Washington, DC 20220.

The systems managers for the Treasury bureaus and offices are:

(1) a. DO: Deputy Assistant Secretary for Human Resources/Chief Human Capital Officer, 1500 Pennsylvania Avenue NW, Washington, DC 20220.

b. OIG: Personnel Officer, 740 15th Street NW, Suite 500, Washington, DC 20220.

c. SIGPR: Special Inspector General for Pandemic Recovery, 1500 Pennsylvania Avenue NW, Washington, DC 20220.

d. SIGTARP: Special Inspector General for the Troubled Asset Relief Program, 1801 L Street NW, Washington, DC 20220.

e. TIGTA: Director, Human Resources, 1125 15th Street NW, Suite 700A, Washington, DC 20005.

(2) TTB: Chief, Personnel Division, 1310 G St. NW, Washington, DC 20220.

(3) OCC: Director, Human Resources, 400 7th Street SW, Washington, DC 20024.

(4) BEP: Chief, Office of Human Resources, 14th & C Streets SW, Room 202-13A, E&P Annex, Washington, DC 20228.

(5) FS: Director, Personnel Management Division, 3700 East-West Hwy., Room 115-F, Hyattsville, MD 20782.

(6) IRS: Associate Director, Transactional Processing Operations, 1111 Constitution Avenue NW, CP6, A:PS:TP, 2nd Floor, Washington, DC 20224.

(7) MINT: Associate Director for Workforce Solutions, 801 9th Street NW, 7th Floor, Washington, DC 20220.

(8) FinCEN: Chief of Personnel and Training, Vienna, VA 22183-0039.

A list of the Federal agencies for which Treasury is a cross-services provider and their respective system managers may be obtained by contacting the Chief Human Capital Officer/Deputy Assistant Secretary for Human Resources, at the address shown above.

AUTHORITY FOR MAINTENANCE OF THE SYSTEM:

5 U.S.C. 301; 31 U.S.C. 321; Homeland Security Presidential Directive 12 (HSPD-12), and Treasury Directive 80-05, Records and Information Management Program, Executive Orders 9397, as amended by 13478, 9830, and 12107, and the American Rescue Plan Act of 2021 (Pub. L. 117-2).

PURPOSE(S) OF THE SYSTEM:

The purposes of the system includes, but are not limited to: (1) Maintaining current and historical payroll records that are used to compute and audit pay entitlement; to record history of pay transactions; to record deductions, leave accrued and taken, bonds due and issued, taxes paid; maintaining and distributing Leave and Earnings statements; commence and terminate allotments; answer inquiries and process claims; and (2) maintaining current and historical personnel records and preparing individual administrative transactions relating to education and training; classification; assignment; career development; evaluation; promotion, compensation, separation and retirement; making decisions on the rights, benefits, entitlements and the utilization of individuals; providing a data source for the production of reports, statistical surveys, rosters, documentation, and studies required for the orderly personnel administration within Treasury; (3) maintaining employment history; (4) performing personnel and payroll functions for Federal agencies for which Treasury is a cross-services provider and to conduct activities necessary to carry-out the official HR line of business for all Federal departments and agencies that are serviced by the National Finance Center (NFC), (5) producing of reports, statistical surveys, rosters, documentation, and studies required for the orderly personnel administration within Treasury; and (6) maintaining information about Treasury personnel and their dependents for needs and status assessments to determine if they are entitled to a benefit related to a natural or man-made disaster, a public health emergency, or similar crisis.

Consistent with Treasury's information-sharing mission, information stored in Department of the Treasury, Treasury .001—Treasury Payroll and Personnel System may be shared with other Treasury Bureaus, as well as appropriate federal, state, local, tribal, foreign, or international government agencies. This sharing will only occur after Treasury determines that the receiving Bureau or agency has a need to know the information to carry out national security, law enforcement, intelligence, or other functions consistent with the routine uses set forth in this system of records notice.

CATEGORIES OF INDIVIDUALS COVERED BY THE SYSTEM:

(1) Employees, former employees, and applicants for employment, in all Treasury Department bureaus and offices. (2) Employees, former employees, and applicants for employment of Federal agencies for which the Treasury Department is a cross-services provider. (3) Dependents and family members of employees and former employees.

CATEGORIES OF RECORDS IN THE SYSTEM:

Information contained in this system includes such data as:

(1) Employee identification and status data such as name, records that establish an individual's identity, social security number, date of birth, sex, race and national origin designator, awards received, suggestions, work schedule, type of appointment, education, training courses attended, veterans preference, and military service;

(2) employment data such as service computation for leave, date probationary period began, date of performance rating, performance contract, and date of within-grade increases;

(3) position and pay data such as position identification number, pay plan, step, salary and pay basis, occupational series, organization location, and accounting classification codes;

(4) payroll data such as earnings (overtime and night differential), deductions (Federal, state, and local taxes, bonds and allotments), and time and attendance data;

(5) employee retirement and Thrift Savings Plan data;

(6) employment history, and

(7) tables of data for editing, reporting, and processing personnel and pay actions. These include nature of action codes, civil service authority codes, standard remarks, signature block table, position title table, financial organization table, and salary tables.

(8) employees and former employees' dependents and family members' data, including but not limited to full name, date of birth, age, and healthcare provider information.

RECORD SOURCE CATEGORIES:

The information contained in these records is provided by or verified by the subject of the record, supervisors, and non-Federal sources such as private employers.

ROUTINE USES OF RECORDS MAINTAINED IN THE SYSTEM, INCLUDING CATEGORIES OF USERS AND PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows:

(1) To the United States Department of Justice (“DOJ”, for the purpose of representing or providing legal advice to the Department in a proceeding before a court, adjudicative body, or other administrative body before which the Department is authorized to appear, when such proceeding involves:

(a) The Department of any bureau or office thereof;

(b) Any employee of the Department in his or her official capacity;

(c) Any employee of the Department in his or her individual capacity where the Department of Justice or the Department has agreed to represent the employee; or

(d) The United States, when the Department determines that litigation is likely to affect the Department or any of its bureaus and offices; and the use of such records by the DOJ is deemed by the DOJ or the Department to be relevant and necessary to the litigation provided that the disclosure is compatible with the purpose for which records were collected.

(2) To an appropriate federal, state, local, tribal, foreign, or international agency, if the information is relevant and necessary to a requesting agency's decision concerning the hiring or retention of an individual, or issuance of a security clearance, background investigation, license, contract, grant, or other benefit, or if the information is relevant and necessary to a Treasury decision concerning the hiring or retention of an employee, the issuance of a security clearance, the reporting of an investigation of an employee, the letting of a contract, or the issuance of a license, grant or other benefit and when disclosure is appropriate to the proper performance of the official duties of the person making the request;

(3) To a Congressional office in response to an inquiry made at the request of the individual to whom the record pertains;

(4) To the National Archives and Records Administration Archivist (or the Archivist's designee) pursuant to records management inspections being conducted under the authority of 44 U.S.C. 2904 and 2906;

(5) To appropriate agencies, entities, and person when (1) the Department of the Treasury suspects or has confirmed that there has been a breach of the system of records; (2) the Department of the Treasury has determined that as a result of the suspected or confirmed breach there is a risk of harm to individuals, the Department of the Treasury (including its information systems, programs, and operations), the Federal Government, or national security; and (3) the disclosure made to such agencies, entities, and persons is reasonably necessary to assist in connection with the Department of the Treasury's efforts to respond to the suspected or confirmed breach or to prevent, minimize, or remedy such harm;

(6) To another Federal agency or Federal entity, when the Department of the Treasury determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(7) Furnish data to the Department of Agriculture, National Finance Center (which provides payroll and personnel processing services for Treasury under a cross-servicing agreement) affecting the conversion of Treasury employee payroll and personnel processing services; the issuance of paychecks to employees and distribution of wages; and the distribution of allotments and deductions to financial and other institutions, some through electronic funds transfer;

(8) Furnish the Internal Revenue Service and other jurisdictions which are authorized to tax employees' compensation with wage and tax information in accordance with a withholding agreement with the Department of the Treasury pursuant to 5 U.S.C. 5516, 5517, and 5520, for the purpose of furnishing employees with IRS Forms W-2 that report such tax distributions;

(9) Provide records to the Office of Personnel Management, Merit Systems Protection Board, Equal Employment Opportunity Commission, and General Accounting Office for the purpose of properly administering Federal personnel systems or other agencies' systems in accordance with applicable laws, Executive Orders, and regulations;

(10) Furnish another Federal agency with information necessary or relevant to effect interagency salary or administrative offset, except that addresses obtained from the Internal Revenue Service shall not be disclosed to other agencies; to furnish a consumer reporting agency information to obtain commercial credit reports; and to furnish a debt collection agency Start Printed Page 78268 information for debt collection services. Current mailing addresses acquired from the Internal Revenue Service are routinely released to consumer reporting agencies to obtain credit reports and are arguably relevant to debt collection agencies for collection services;

(11) Disclose information to a Federal, state, local, or foreign agency maintaining civil, criminal, or other relevant enforcement information or other pertinent information, that has requested information relevant to or necessary to the requesting agency's hiring or retention of an individual, or issuance of a security clearance, license, contract, grant, or other benefit;

(12) Disclose information to a court, magistrate, or administrative tribunal in the course of presenting evidence, including disclosures to opposing counsel or witnesses in the course of civil discovery, litigation or settlement negotiations in response to a subpoena where arguably relevant to a proceeding, or in connection with criminal law proceedings;

(13) Disclose information to foreign governments in accordance with formal or informal international agreements;

(14) Provide information to a congressional office in response to an inquiry made at the request of the individual to whom the record pertains;

(15) Provide information to the news media in accordance with guidelines contained in 28 CFR 50.2, which relates to civil and criminal proceedings;

(16) Provide information to third parties during the course of an investigation to the extent necessary to obtain information pertinent to the investigation;

(17) Provide information to unions recognized as exclusive bargaining representatives under the Civil Service Reform Act of 1978, 5 U.S.C. 7111 and 7114;

(18) Provide wage and separation information to another agency, such as the Department of Labor or Social Security Administration, as required by law for payroll purposes;

(19) Provide information to a Federal, state, or local agency so that the agency may adjudicate an individual's eligibility for a benefit, such as a state employment compensation board, housing administration agency, and Social Security Administration;

(20) Disclose pertinent information to appropriate Federal, state, local or foreign agencies responsible for investigating or prosecuting the violation of, or for implementing, a statute, regulation, order, or license, where the disclosing agency becomes aware of a potential violation of civil or criminal law or regulation;

(21) Disclose information about particular Treasury employees to requesting agencies or non-Federal entities under approved computer matching efforts, limited only to those data elements considered relevant to making a determination of eligibility under particular benefit programs administered by those agencies or entities or by the Department of the Treasury or any constituent unit of the Department, to improve program integrity, and to collect debts and other money owed under those programs (e.g., matching for delinquent loans or other indebtedness to the government);

(22) Disclose to the Office of Child Support Enforcement, Administration for Children and Families, Department of Health and Human Services, the names, social security numbers, home addresses, dates of birth, dates of hire, quarterly earnings, employer identifying information, and State of hire of employees, for the purposes of locating individuals to establish paternity, establishing and modifying orders of child support, identifying sources of income, and for other child support enforcement activities as required by the Personal Responsibility and Work Opportunity Reconciliation Act (Welfare Reform Law, Pub. L. 104-193);

(23) Disclose to contractors, grantees, experts, consultants, students, other federal agencies, states and local governments, and others performing or working on a contract, service, grant, cooperative agreement, or other assignment for the Department of the Treasury as required for the production of reports, descriptive statistical surveys, rosters, documentation, and studies required for the orderly administration of personnel and payroll-related issues within Treasury;

(24) Disclose information to other Federal agencies with whom the Department has entered into a cross servicing agreement that provides for the delivery of automated human resources operations. These operations may include maintaining current and historical payroll and personnel records, and providing reports, statistical surveys, rosters, documentation, and studies as required by the other federal agency to support its personnel administration activities; and

(26) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Disclosure to consumer reporting agencies:

Disclosures may be made pursuant to 5 U.S.C. 552a(b)(12) and section 3 of the Debt Collection Act of 1982, Public Law 97-365; debt information concerning a government claim against an individual is also furnished, in accordance with 5 U.S.C. 552a(b)(12) and section 3 of the Debt Collection Act of 1982, to consumer reporting agencies to encourage repayment of an overdue debt. Disclosures may be made to a consumer reporting agency as defined in the Fair Credit Reporting Act, 15 U.S.C. 1681a(f), or the Federal Claims Collection Act of 1966, 31 U.S.C. 701(a)(3).

POLICIES AND PRACTICES FOR STORAGE OF RECORDS:

Records in this system are stored electronically or on paper in secure facilities in a locked drawer behind a locked door. Microfiche, and hard copy are stored on magnetic disc, tape, digital media, and CD-ROM. Disbursement records are stored at the Federal Records Center.

POLICIES AND PRACTICES FOR RETRIEVAL OF RECORDS:

Records may be retrieved alphabetically by name of subject or complainant, by case number, by special agent name, by employee identifying number, by victim, and by witness case number.

POLICIES AND PRACTICES FOR RETENTION AND DISPOSAL OF RECORDS:

The current payroll and personnel system and the personnel and payroll system's master files are kept as Start Printed Page 78269 electronic media. Information rendered to hard copy in the form of reports and payroll information documentation is also retained in an electronic media format. Employee records are retained in automated form for as long as the employee is active on the system (separated employee records are maintained in an “inactive” status). Files are purged in accordance with Treasury Directive 80-05, “Records and Information Management Program.”

ADMINISTRATIVE, TECHNICAL, AND PHYSICAL SAFEGUARDS:

Entrances to data centers and support organization offices are restricted to those employees whose work requires them to be there for the system to operate. Identification (ID) cards are verified to ensure that only authorized personnel are present. Disclosure of information through remote terminals is restricted through the use of passwords and sign-on protocols, which are periodically changed. Reports produced from the remote printers are in the custody of personnel and financial management officers and are subject to the same privacy controls as other documents of similar sensitivity.

RECORD ACCESS PROCEDURES:

See “Notification Procedures” below.

CONTESTING RECORD PROCEDURES:

See “Notification Procedures” below.

NOTIFICATION PROCEDURES:

Pursuant to 5 U.S.C. 552a(j)(2) and (k)(2), this system of records may not be accessed for purposes of determining if the system contains a record pertaining to a particular individual, or for contesting the contents of a record.

EXEMPTIONS PROMULGATED FOR THE SYSTEM:

None.

HISTORY:

Notice of this system of records was last published in full in the Federal Register on November 7, 2016 (81 FR 78266) as the Department of the Treasury .001 Treasury Payroll and Personnel System.

[FR Doc. 2021-14246 Filed 7-1-21; 8:45 am]

BILLING CODE 4810-AK-P